Presidential Determination No. 2000-19 of April 21, 2000

Waiver and Certification of Statutory Provisions Regarding the Palestine Liberation Organization

Memorandum for the Secretary of State

Pursuant to the authority vested in me under section 538(d) of the Foreign Operations, Export Financing, and Related Programs Appropriations Act, 2000, as contained in the Consolidated Appropriations Act for Fiscal Year 2000 (Public Law 106-113), I hereby determine and certify that it is important to the national security interests of the United States to waive the provisions of section 1003 of the Anti-Terrorism Act of 1987, Public Law 100-204.

This waiver shall be effective for a period of 6 months from the date of this memorandum. You are hereby authorized and directed to transmit this determination to the Congress and to publish it in the Federal Register.

wj

THE WHITE HOUSE,

Washington, April 21, 2000.

[FR Doc. 00-10708

Filed 4-26-00; 8:45 am]

Billing code 4710-10-M